DEPARTMENT OF ENERGY

Federal Energy Regulatory Commission

[Project No. 344-000]

Southern California Edison Company; Notice of Designation of Certain Commission Personnel as Non-Decisional

Commission staff members Katherine Liberty (Office of the General Counsel 202-502-6491; katherine.liberty@ferc.gov) and Elizabeth Molloy (Office of the General Counsel; 202-502-8771; elizabeth.molloy@ferc.gov) are assigned to help resolve issues related to the San Gorgonio Project No. 344.

As “non-decisional” staff, Ms. Liberty and Ms. Molloy will not participate in an advisory capacity in any matters related to the San Gorgonio Project No. 344.

Dated: October 30, 2014.
Nathaniel J. Davis, Sr.,
Deputy Secretary.

[FR Doc. 2014-26261 Filed 11-4-14; 8:45 am]

BILLING CODE 6717-01-P